NATIONAL AERONAUTICS AND SPACE ADMINISTRATION

[Notice (05-156)]

International Space Station Advisory Committee; Notice of Establishment of a NASA Advisory Committee, Pursuant to the Federal Advisory Committee Act, 5 U.S.C. App. Sections 1 et seq.

AGENCY: National Aeronautics and Space Administration (NASA).

SUMMARY: The Administrator of the National Aeronautics and Space Administration has determined that the establishment of the International Space Station Advisory Committee is necessary and in the public interest in connection with the performance of duties imposed upon NASA by law. This determination follows consultation with the Committee Management Secretariat, General Services Administration.

Name of Committee: International Space Station Advisory Committee.

Purpose and Objective: The Committee will advise the NASA Associate Administrator of the Space Operations Mission Directorate on matters related to the safety and operational readiness of the International Space Station. The Committee will draw on the expertise of its members and other sources to provide its advice and recommendations to the Agency. The Committee will hold meetings and make site visits as necessary to accomplish its responsibilities. The Committee will function solely as an advisory body and will comply fully with the provisions of the Federal Advisory Committee Act.

Lack of Duplication of Resources: The Committee's functions cannot be performed by the agency, another existing committee, or other means such as a public meeting.

Fairly Balanced Membership: Membership shall be comprised of experts in disciplines that permit the assessment of any aspect of the ISS program. Consultants or subject matter experts may be called in on a temporary basis to assist or augment the Committee when unique or additional expertise is required. The Associate Administrator of the Space Operations Mission Directorate shall ensure a balanced representation in terms of the points of view represented and the functions to be performed.

Duration: Continuing.

Responsible NASA Official: Mr. William Gerstenmaier, Associate Administrator, Space Operations Mission Directorate, National Aeronautics and Space Administration, 300 E Street, SW., Washington, DC 20546, telephone (202) 358-2015.

P. Diane Rausch,
Advisory Committee Management Officer, National Aeronautics and Space Administration.

[FR Doc. E5-6775 Filed 12-1-05; 8:45 am]

BILLING CODE 7510-13-P